DEPARTMENT OF COMMERCE

National Oceanic and Atmospheric Administration

Gulf of Mexico Fishery Management Council (Council); Public Meetings

AGENCY: National Marine Fisheries Service (NMFS), National Oceanic and Atmospheric Administration (NOAA), Commerce.

ACTION: Notice of public meetings.

SUMMARY: The Gulf of Mexico Fishery Management Council (GMFMC) and the South Atlantic Fishery Management Council (SAFMC) will hold a meeting of its Joint Council Committee on South Florida Management Issues and the Ad Hoc Goliath Grouper Joint Council Steering Committee in Key Largo, FL.

DATES: The meeting will be held from 9 a.m. Tuesday, July 22, 2014 until 12 noon on Thursday, July 24, 2014.

ADDRESSES: Meeting address: The meeting will be held at the Hilton Key Largo Hotel, 97000 Overseas Highway, Key Largo, FL.

Council address: Gulf of Mexico Fishery Management Council, 2203 North Lois Avenue, Suite 1100, Tampa, FL 33607.

FOR FURTHER INFORMATION CONTACT: Mr. Douglas Gregory, Executive Director, Gulf of Mexico Fishery Management Council; telephone: (813) 348-1630; fax: (813) 348-1711; email: doug.gregory@gulfcouncil.org.

SUPPLEMENTARY INFORMATION: The items of discussion on the agenda are as follows:

Joint Council Committee on South Florida Management Issues Agenda, Tuesday, July 22, 2014, 9 a.m. Until 5 p.m.

1. Introduction

2. Approval of Agenda

3. Approval of January 7-9, 2014 Jt. Council Committee on South Florida Management Issues and Ad Hoc Goliath Grouper Joint Council Steering Committee Minutes

4. South Florida Management Issues

a. Status of South Atlantic Species Removal

b. Committee Recommendations

c. Review of Draft Joint Generic Amendment to the Gulf Reef Fish and South Atlantic Snapper Grouper FMPs

d. Committee Recommendations

5. Public Comment

6. Recess

Joint Council Committee on South Florida Management Issues, Wednesday, July 23, 2014, 9 a.m. Until 5 p.m.

7. South Florida Management Issues—continued

a. Continue Reviewing a of Draft Joint Generic Amendment to the Gulf Reef Fish and South Atlantic Snapper Grouper FMPs

b. Committee Recommendations

8. Progress Report on Speckled Hind and Warsaw Grouper Working Group

a. Life history information

b. Stock structure and status

c. Regulations

d. Committee Recommendations

9. Public Comment

10. Summary of motions and committee actions/wrap-up

11. Other Business

12. Adjourn

Ad Hoc Goliath Grouper Joint Steering Committee Agenda, Thursday, July 24, 2014, 9 a.m. Until 12 noon

Goliath Grouper

a. Review of ongoing goliath grouper research obtained

b. Report on SSC/stock assessment analyst recommendations

c. Next steps for assessment/additional data collection

d. Ad Hoc Goliath Grouper Joint Steering Committee Recommendations

e. Other business

f. Adjourn

Joint Council Committee on South Florida Management Issues will be convened to provide Discussion and Feedback on the Recommendations from Ad Hoc Goliath Grouper Joint Committee

a. Public Comment

b. Joint Council Committee Recommendations and Next Steps

—Adjourn—

The Agenda is subject to change, and the latest version will be posted on the Council's file server, which can be accessed by going to the Council Web site at http://www.gulfcouncil.org and clicking on FTP Server under Quick Links. The meetings will be Webcast over the Internet. A link to the Webcast will be available on the Council's Web site, http://www.gulfcouncil.org.

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: July 1, 2014.
Tracey L. Thompson,
Acting Deputy Director, Office of Sustainable Fisheries, National Marine Fisheries Service.

[FR Doc. 2014-15777 Filed 7-3-14; 8:45 am]

BILLING CODE 3510-22-P